DEPARTMENT OF THE INTERIOR

National Park Service

[NPS-NCR-NAMA-NPS0036844; PPNCNAMAN70, PPMPSPD1Z.YM00000 (222); OMB Control Number 1024-0021]

Agency Information Collection Activities; Submission to the Office of Management and Budget for Review and Approval; National Capital Area Application for Public Gathering

AGENCY: National Park Service, Interior.

ACTION: Notice of information collection; request for comment.

SUMMARY: In accordance with the Paperwork Reduction Act of 1995, we, the National Park Service (NPS) are proposing to renew an information collection.

DATES: Interested persons are invited to submit comments on or before January 12, 2024.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 13461 Sunrise Valley Drive, (MS 244) Reston, VA 20192 (mail); or phadrea_ponds@nps.gov (email). Please reference OMB Control Number 1024-0021 in the subject line of your comments.

FOR FURTHER INFORMATION CONTACT: To request additional information about this ICR, contact Marisa Richardson, Permit Specialist, at marisa_richardson@nps.gov (email); or 202-245-4715 (telephone). Please reference OMB Control Number 1024-0021 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at https://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 12, 2023 (88 FR 2121). We did not receive any comments in response to that notice.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Division of Permits Management of the National Mall and Memorial Parks is authorized by regulations codified in 36 CFR 7.96(g) to issue permits for public gatherings, including special events and demonstrations, held on NPS property within the National Capital Area. The regulations reflect the special demands on many urban National Capital Area parks used as sites for demonstrations and special events. A special event is defined as any presentation, program, or display that is recreational, entertaining, or celebratory in nature (e.g., sports events, pageants, celebrations, historical reenactments, regattas, entertainments, exhibitions, parades, fairs, festivals, and similar events). The term “demonstration” includes demonstrations, picketing, speechmaking, marching, holding vigils or religious services, and all other forms of conduct that involve the communication or expression of views or grievances. We use NPS Form 10-941 “Application for a Permit to Conduct a Demonstration or Special Event in Park Areas” to collect information that is used to identify the nature of the proposed activity and determine the statutory authority to grant the permit.

Title of Collection: National Capital Area Application for Public Gathering.

OMB Control Number: 1024-0021.

Form Number: NPS Form 10-941, “Application for a Permit to Conduct a Demonstration or Special Event in Park Areas”.

Type of Review: Extension of a currently approved collection.

Respondents/Affected Public: Individuals, organizations, businesses, and State, local, or tribal governments.

Total Estimated Number of Annual Respondents: 1,890.

Total Estimated Number of Annual Responses: 7,166.

Estimated Completion Time per Response: Varies from 0.5 hours to 1.5 hours, depending on activity.

Total Estimated Number of Annual Burden Hours: 6,617.

Respondent's Obligation: Required to obtain or retain a benefit.

Frequency of Collection: On occasion.

Total Estimated Annual Nonhour Burden Cost: The estimated annual non-hour burden cost associated with this information collection is 169.920 ($120 × 1,416 applicants). A $120.00 application fee is submitted to recover the cost of processing the request. There is no application fee for permits to cover First Amendment activities.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-27253 Filed 12-12-23; 8:45 am]

BILLING CODE 4312-52-P